DEPARTMENT OF DEFENSE

Defense Acquisition Regulations System

48 CFR Parts 201 and 212

RIN 0750-AH65

Defense Federal Acquisition Regulation Supplement: Inflation Adjustment of Threshold for Acquisition of Right-Hand Drive Passenger Sedans (DFARS Case 2012-D016)

AGENCY: Defense Acquisition Regulations System, Department of Defense (DoD).

ACTION: Final rule.

SUMMARY: DoD is adopting as final, without change, an interim rule amending the Defense Federal Acquisition Regulation Supplement (DFARS) to implement a section of the National Defense Authorization Act for Fiscal Year 2012 that requires adjustment of the statutory dollar limitation on the acquisition of right-hand drive passenger sedans.

DATES: Effective Date: August 29, 2012.

FOR FURTHER INFORMATION CONTACT: Ms. Amy Williams, telephone 571-372-6106.

SUPPLEMENTARY INFORMATION:

I. Background

DoD published an interim rule in the Federal Register at 77 FR 19127 on March 30, 2012, to implement section 814(b) of the National Defense Authorization Act for Fiscal Year 2012 (Pub. L. 112-81). The interim rule adjusted the dollar limitation on the acquisition of right-hand drive passenger sedans from $30,000 per vehicle to $40,000 per vehicle, and included this dollar limitation on the list of statutory acquisition-related dollar thresholds subject to inflation adjustment in accordance with the requirements of 41 U.S.C. 1908. One respondent submitted a public comment in response to the interim rule.

II. Discussion and Analysis of the Public Comments

The respondent concurred with the inflation threshold increase listed at DFARS 212.271. There were no comments suggesting changes to the interim rule. Therefore, DoD is finalizing the interim rule without change.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

DoD certifies that this final rule will not have a significant economic impact on a substantial number of small entities within the meaning of the Regulatory Flexibility Act, 5 U.S.C. 601, et seq., because it merely adjusts upward the current limitation for acquisition of right-hand drive passenger vehicles from $30,000 to $40,000 due to inflation.

V. Paperwork Reduction Act

The rule does not contain any information collection requirements that require the approval of the Office of Management and Budget under the Paperwork Reduction Act (44 U.S.C. chapter 35).

List of Subjects in 48 CFR Parts 201 and 212

Government procurement.

Manuel Quinones,
Editor, Defense Acquisition Regulations System.

Interim Rule Adopted as Final Without Change

Accordingly, the interim rule amending 48 CFR parts 201 and 212, which was published at 77 FR 19127 on March 30, 2012, is adopted as a final rule without change.

[FR Doc. 2012-21062 Filed 8-28-12; 8:45 am]

BILLING CODE 5001-06-P